DEPARTMENT OF ENERGY

Federal Energy Regulatory Commission

[Docket No. NJ11-6-000]

City of Anaheim, CA; Notice of Filing

December 30, 2010.

Take notice that on December 17, 2010, the City of Anaheim, California (Anaheim) filed its annual revision to its Transmission Revenue Balancing Account Adjustment, consistent with its Transmission Owner Tariff filed in Docket No. EL03-15-000, and the California Independent System Operator Corporation Tariff.

Anaheim also requests any necessary waivers by the Commission to allow its filing to be accepted for filing and approved by the Commission to become effective as of January 1, 2011.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 pm Eastern Time on January 18, 2011.

Kimberly D. Bose,
Secretary.

[FR Doc. 2011-40 Filed 1-6-11; 8:45 am]

BILLING CODE 6717-01-P